DEPARTMENT OF VETERANS AFFAIRS

Fund Availability Under the Grants for Transportation of Veterans in Highly Rural Areas

AGENCY: Department of Veterans Affairs.

ACTION: Notice.

SUMMARY: The Department of Veterans Affairs (VA) is announcing the availability of funds under the Grants for Transportation of Veterans in Highly Rural Areas. This Notice contains information concerning the Grants for Transportation of Veterans in Highly Rural Areas program, application process, and amount of funding available.

DATES: Applications for assistance under the Grants for Transportation of Veterans in Highly Rural Areas Program must be submitted to www.grants.gov by 4:00 p.m. eastern standard time on September 9, 2013. In the interest of fairness to all competing applicants, this deadline is firm as to date and hour, and VA will treat as ineligible for consideration any application that is received after the deadline. Applicants should take this practice into account and make early submission of their materials to avoid any risk of loss of eligibility brought about by unanticipated delays, computer service outages (in the case of grants.gov), or other delivery-related problems.

For a Copy of the Application Package: The application can be found at grants.gov, http://www.grants.gov/search/basic.do, utilizing the “search by Catalog of Federal Domestic Assistance number” function, and entering in that search field the number 64.035. Questions should be referred to the Veterans Transportation Program Office at (404) 828-5380 (this is not a toll-free number) or by email at HRTG@va.gov. For further information on Grants for Transportation of Veterans in Highly Rural Areas Program requirements, see the Final Rule published in the Federal Register (78 FR 19586) on April 2, 2013, which is codified in 38 CFR 17.700 through 17.730.

Submission of Applications: Applications may not be sent by facsimile. Applications must be submitted to www.grants.gov by the application deadline. Applications must be submitted as a complete package. Materials arriving separately will not be included in the application package for consideration and may result in the application being rejected. All applicable forms cited in the application description must be included.

FOR FURTHER INFORMATION CONTACT: Darren Wallace, National Coordinator, Highly Rural Transportation Grants, Veterans Transportation Program, Chief Business Office (10NB2G), 2957 Clairmont Road, Atlanta, GA 30329; (404) 828-5380 (this is not a toll-free number).

Informational Webinar: People who are interested in applying for this grant can view an informational Webinar about the Highly Rural Transportation Grants Program at the following link: http://va-eerc-ees.adobeconnect.com/p552nvc4m5e/.

Grantee Eligibility: The only entities eligible to apply for and receive grants are Veterans Service Organizations and State Veterans Service Agencies.

SUPPLEMENTARY INFORMATION: Pursuant to section 307 of the Caregivers and Veterans Omnibus Health Services Act of 2010, VA “shall establish a grant program to provide innovative transportation options to veterans in highly rural areas.” To comply with section 307, VA will award grants to eligible recipients to assist veterans in highly rural areas through innovative transportation services to travel to VA medical centers and to other VA and non-VA facilities in connection with the provision of VA medical care. Please refer to the Final Rule, published in the Federal Register (78 FR 19586) on April 2, 2013, which is codified in 38 CFR 17.700 through 17.730, for detailed information and requirements for the Grants for Transportation of Veterans in Highly Rural Areas Program.

A. Purpose: This program's purpose is to provide grants to eligible recipients to assist veterans in highly rural areas through innovative transportation services to travel to VA medical centers and to other VA and non-VA facilities to assist in providing transportation services in connection with the provision of VA medical care.

B. Definitions: Section 17.701 of the Final Rule and 38 CFR 17.701 contain definitions of terms used in the Grants for Transportation of Veterans in Highly Rural Areas Program. Definitions of key terms are also provided below for reference; however, 38 CFR 17.701 should be consulted for a complete list of definitions.

Applicant means an eligible entity that submits an application for a grant announced in a Notice of Funds Availability.

Eligible entity means either a Veterans Service Organization or a State Veterans Service Agency.

Grantee means an applicant that is awarded a grant under this NOFA.

Highly rural area means an area consisting of a county or counties having a population of less than seven persons per square mile. Note: A listing of these highly rural areas may be found with the application materials on grants.gov.

Notice of Funds Availability means a Notice of Funds Availability published in the Federal Register in accordance with 38 CFR 17.710.

Participant means a veteran in a highly rural area who is receiving transportation services from a grantee.

Provision of VA medical care means the provision of hospital or medical services as authorized under sections 1710, 1703, and 8153 of title 38 United States Code.

State Veterans Service Agency means the element of a State government that has responsibility for programs and activities of that government relating to veterans benefits.

Subrecipient means an entity that receives grant funds from a grantee to perform work for the grantee in the administration of all or part of the grantee's program.

Transportation services means the direct provision of transportation, or assistance with transportation, to travel to VA medical centers and other VA or non-VA facilities in connection with the provision of VA medical care.

Veteran means a person who served in the active military, naval, or air service, and who was discharged or released there from under conditions other than dishonorable.

Veterans Service Organization means an organization recognized by the Secretary of Veterans Affairs for the representation of veterans under section 5902 of title 38 United States Code.

C. Approach: Grantees will be expected to obtain grant funds to provide innovative transportation services to veterans in highly rural areas and transport veterans to and from VA medical centers and other VA and non-VA facilities that provide VA medical care.

D. Authority: Funding applied for under this Notice is authorized by section 307 of the Caregivers and Veterans Omnibus Health Services Act of 2010, Public Law. 111-163 (the 2010 Act), codified in 38 CFR 17.700 through 17.730, Grants for Transportation of Veterans in Highly Rural Areas. Funds made available under this Notice are subject to the requirements of the aforementioned regulations and other applicable laws and regulations.

E. Allocation: Approximately $3 million is authorized to be appropriated for fiscal year 2014, and may be available for each subsequent year of the program's existence to fund Grants for Transportation of Veterans in Highly Rural Areas. In accordance with 38 CFR 17.710, subject to the availability of VA funds, VA may issue additional Notices of Funding Availability which would permit grantees to apply for Grants for Transportation of Veterans in Highly Rural Areas in accordance with the terms and conditions of such Notices of Funding Availability. The following requirements apply to grants awarded under this notice:

(a) One grant may be awarded to a grantee per fiscal year for each highly rural area in which the grantee provides transportation services. Transportation services may not be simultaneously provided by more than one grantee in any single highly rural area.

(b) No single grant will exceed $50,000.

(c) A grantee will not be required to provide matching funds as a condition of receiving such grant.

(d) A veteran who is provided transportation services via grant monies will not be charged for such services.

F. Grants for Transportation of Veterans in Highly Rural Areas Award Period: Grants for Transportation of Veterans in Highly Rural Areas awarded under this Notice will be for a 1-year period.

G. Grantee Eligibility and Application Procedures: Basic eligibility criteria and application procedures are as follows:

(a) The only entities eligible to apply for and receive grants are Veterans Service Organizations and State Veterans Service Agencies.

(b) Eligible entities can submit a complete grant application package to be considered for an initial grant, and would specify in the application that an initial grant is being applied for.

(c) Eligible entities can submit a complete renewal grant application package to be considered for a renewal grant, if the grantee's program would remain substantially the same, and would specify in the application that a renewal grant is being applied for.

Note: Only initial grants will be funded in fiscal year 2014; renewal grants may be funded beginning in fiscal year 2015. Information provided on renewal grants in this Notice of Funds Availability are merely to provide advance notice for the benefit of applicants who may receive an initial grant in fiscal year 2014 that they would like to renew in fiscal year 2015.

H. Application Selection Methodology: VA will review and score all initial grant applications in response to this Notice according to the following steps and criteria:

(a) Initial grant scoring: Applications will be scored using the following selection criteria:

(1) VA will award up to 40 points (10 points per question) based on the program's plan for successful implementation, as demonstrated by the following:

(i) Program scope is defined, and applicant has specifically indicated the mode(s) or method(s) of transportation services to be provided by the applicant or identified subrecipient.

(ii) Program budget is defined, and applicant has indicated that grant funds will be sufficient to completely implement the program.

(iii) Program staffing plan is defined, and applicant has indicated that there will be adequate staffing for delivery of transportation services according to program scope.

(iv) Program timeframe for implementation is defined, and applicant has indicated that the delivery of transportation services will be timely.

(2) VA will award up to 30 points (15 points per question) based on the program's evaluation plan, as demonstrated by the following:

(i) Measurable goals for determining the success of delivery of transportation services.

(ii) Ongoing assessment of the measurable goals for determining the success of delivery of transportation services, with a means of adjusting the program if required.

(3) VA will award up to 20 points (10 points per question) based on the applicant's community relationships in the areas to be serviced, as demonstrated by the following:

(i) Applicant has existing relationships with state or local agencies or private entities, or will develop such relationships, and has shown these relationships will enhance the program's effectiveness.

(ii) Applicant has established past working relationships with state or local agencies or private entities which have provided services similar to those offered by the program.

(4) VA will award up to 10 points (5 points per question) based on the innovative aspects of the program, as demonstrated by the following:

(i) How program will identify and serve veterans who otherwise would be unable to obtain care.

(ii) How program will utilize or integrate existing public resources (VA, state, or other).

(b) Initial grant selection: VA will use the following process to award initial grants:

(1) VA will rank those applicants who receive at least the minimum amount of total points (70 points) and points per category set forth in this notice. The applicants will be ranked in order from highest to lowest scores.

(2) VA will use the grantee's ranking as the basis for selection for funding. VA will fund the highest ranked grantees for which funding is available.

(c) Renewal grant scoring: Renewal applications will be scored using the following selection criteria: NOTE: Renewal grants may only be funded starting in fiscal year 2015; the following criteria are provided merely as advance notice for the benefit of applicants who may receive an initial grant in fiscal year 2014 that they would like to renew in fiscal year 2015.

(1) VA will award up to 55 points based on the success of the grantee's program, as demonstrated by the following:

(i) Application shows that the grantee or identified subrecipient provided transportation services, which allowed participants to be provided medical care timely and as scheduled.

(ii) Application shows that participants were satisfied with the transportation services provided by the grantee or identified subrecipient based on the satisfaction survey.

(2) VA will award up to 35 points (17.5 points per question) based on the cost effectiveness of the program, as demonstrated by the following:

(i) The grantee or identified subrecipient administered the program on budget.

(ii) Grant funds were utilized in a sensible manner, as interpreted by information provided by the grantee to VA as required under § 17.725(a)(1) through (a)(7).

(3) VA will award up to 15 points (7.5 points per question) based on the extent to which the program complied with:

(i) The grant agreement.

(ii) Applicable laws and regulations.

(d) Renewal Grant Selection: VA will use the following process to award renewal grants:

(1) VA will rank those applications that receive at least the minimum amount of total points (75 points) and points per category set forth in this Notice. The applications will be ranked in order from highest to lowest scores.

(2) VA will use the applications' ranking as the basis for awarding grants. VA will award grants for the highest ranked applications for which funding is available.

I. Application Requirements: Additional grant application requirements are specified in the application package. Submission of an incorrect or incomplete application package will result in the application being rejected during threshold review. The application package contains all required forms and certifications. Selections will be made based on criteria described in the Final Rule published in the Federal Register (78 FR 19586) on April 2, 2013, which is codified in 38 CFR 17.700 through 17.730. Applicants will be notified of any additional information needed to confirm or clarify information provided in the application and the deadline by which to submit such information.

J. Grant Agreements: Grant agreements must be executed prior to VA obligating grant funds according to the following steps and criteria.

(a) General. After a grantee is awarded a grant in accordance with 38 CFR 17.705(b) or 17.705(d), VA will draft a grant agreement to be executed by VA and the grantee. Upon execution of the grant agreement, VA will obligate the approved amount. The grant agreement will provide that:

(1) The grantee must operate the program in accordance with the provisions of this section and the grant application.

(2) If a grantee's application identified a subrecipient, such subrecipient must operate the program in accordance with the provisions of 38 CFR 17.715 and the grant application.

(3) If a grantee's application identified funds that will be used to procure or operate vehicles to directly provide transportation services, the following requirements must be met:

(i) Title to the vehicles must vest solely in the grantee or identified subrecipient, or with leased vehicles in an identified lender.

(ii) The grantee or identified subrecipient must, at a minimum, provide motor vehicle liability insurance for the vehicles to the same extent they would insure vehicles procured with their own funds.

(iii) All vehicle operators must be licensed in a U.S. State or Territory to operate such vehicles.

(iv) Vehicles must be safe and maintained in accordance with the manufacturer's recommendations.

(v) Vehicles must be operated in accordance with applicable Department of Transportation regulations concerning transit requirements under the Americans with Disabilities Act.

K. Payments under the grant: Grantees will receive payments electronically through the U.S. Department of Health and Human Services Payment Management System.

L. Grantee Reporting Requirements: VA places great emphasis on the responsibility and accountability of grantees. As described in § 17.725 of the Final Rule and 38 CFR 17.725, VA has procedures in place to monitor services provided to veterans through required reporting from grantees as follows.

(a) Program efficacy. All grantees who receive either an initial or renewal grant must submit to VA quarterly and annual reports which indicate the following information:

(1) Record of time expended assisting with the provision of transportation services.

(2) Record of grant funds expended assisting with the provision of transportation services.

(3) Trips completed.

(4) Total distance covered.

(5) Veterans served.

(6) Locations which received transportation services.

(7) Results of veteran satisfaction survey.

(b) Quarterly fiscal report. All grantees who receive either an initial grant must submit to VA a quarterly report which identifies the expenditures of the funds which VA authorized and obligated.

(c) Program variations. Any changes in a grantee's program activities which result in deviations from the grant agreement must be reported to VA.

(d) Additional reporting. Additional reporting requirements may be requested by VA to allow VA to fully assess program effectiveness.

M. Recovery of Funds by VA: VA may recover from the grantee any funds that are not used in accordance with a grant agreement. If VA decides to recover funds, VA will issue to the grantee a notice of intent to recover grant funds, and grantee will then have 30 days to submit documentation demonstrating why the grant funds should not be recovered. After review of all submitted documentation, VA will determine whether action will be taken to recover the grant funds. When VA determines action will be taken to recover grant funds from the grantee, the grantee is then prohibited from receipt of any further grant funds.

Signing Authority

The Secretary of Veterans Affairs, or designee, approved this document and authorized the undersigned to sign and submit the document to the Office of the Federal Register for publication electronically as an official document of the Department of Veterans Affairs. Jose D. Riojas, Interim Chief of Staff, Department of Veterans Affairs, approved this document on June 28, 2013, for publication.

Dated: June 28, 2013.
William F. Russo,
Deputy Director, Regulation Policy and Management, Office of the General Counsel, Department of Veterans Affairs.

[FR Doc. 2013-16389 Filed 7-8-13; 8:45 am]

BILLING CODE 8320-01-P